DEPARTMENT OF TRANSPORTATION

Surface Transportation Board

[STB Finance Docket No. 35117]

Sacramento Valley Railroad, Inc.—Operation Exemption—McClellan Business Park LLC

Sacramento Valley Railroad, Inc. (SAVR), a noncarrier, has filed a verified notice of exemption under 49 CFR 1150.31 to operate, pursuant to an agreement that will be completed by March 1, 2008, with McClellan Business Park LLC (MBP), over MBP's approximately 7-mile line of unmarked railroad within McClellan Business Park, in McClellan, Sacramento County, CA.

SAVR advises that MBP's predecessor entered into a license and operating agreement with the Yolo Shortline Railroad Company (Yolo) on February 6, 2001.¹ Sierra Railroad Company acquired control of Yolo ² and began operating the line.³ MBP notified Yolo's successor that the license to operate would not be renewed and put the operation of the line out for bid. SAVR was the winning bidder.

¹ See Yolo Shortline Railroad Company—Acquisition and Operation Exemption—County of Sacramento, CA, STB Finance Docket No. 34018 (STB served Mar. 27, 2001).

² See Sierra Railroad Company—Acquisition of Control Exemption—Yolo Shortline Railroad Company, STB Finance Docket No. 34351 (STB served June 11, 2003).

³ See Sierra Railroad Company—Corporate Family Transaction Exemption—Yolo Shortline Railroad Company, STB Finance Docket No. 34360 (STB served June 23, 2003).

This transaction is related to the concurrently filed verified notice of exemption in STB Finance Docket No. 35118, Patriot Rail, LLC, Patriot Rail Holdings LLC, and Patriot Rail Corp.—Continuance in Control Exemption—Sacramento Valley Railroad, Inc. In that proceeding, Patriot Rail, LLC and its subsidiaries, Patriot Rail Holdings LLC and Patriot Rail Corp., jointly have filed a verified notice of exemption to continue in control of SAVR, upon SAVR's becoming a rail carrier.

The transaction is scheduled to be consummated on or after March 1, 2008, and hence after the February 28, 2008 effective date of the exemption.

SAVR certifies that its projected annual revenues as a result of this transaction would not exceed those that would qualify it as a Class III rail carrier and further certifies that its projected annual revenues will not exceed $5 million.

Pursuant to the Consolidated Appropriations Act, 2008, Public Law 110-161, section 193, 121 Stat. 1844 (2007), nothing in this decision authorizes the following activities at any solid waste rail transfer facility: Collecting, storing or transferring solid waste outside of its original shipping container; or separating or processing solid waste (including baling, crushing, compacting and shredding). The term “solid waste” is defined in section 1004 of the Solid Waste Disposal Act, 42 U.S.C. 6903.

If the verified notice contains false or misleading information, the exemption is void ab initio. Petitions to revoke the exemption under 49 U.S.C. 10502(d) may be filed at any time. The filing of a petition to revoke will not automatically stay the effectiveness of the exemption. Petitions for stay must be filed no later than February 21, 2008 (at least 7 days before the exemption becomes effective).

An original and 10 copies of all pleadings, referring to STB Finance Docket No. 35117, must be filed with the Surface Transportation Board, 395 E Street, SW., Washington, DC 20423-0001. In addition, one copy of each pleading must be served on Louis E. Gitomer, Esq., 600 Baltimore Ave., Suite 301, Towson, MD 21204.

Board decisions and notices are available on our Web site at http://www.stb.dot.gov.

Decided: February 7, 2008.
By the Board, David M. Konschnik, Director, Office of Proceedings.
Anne K. Quinlan,
Acting Secretary.

[FR Doc. E8-2770 Filed 2-13-08; 8:45 am]

BILLING CODE 4915-01-P